NATIONAL AERONAUTICS AND SPACE ADMINISTRATION

[Notice (07-088)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: December 7, 2007.

FOR FURTHER INFORMATION CONTACT: Bryan A. Geurts, Patent Counsel, Goddard Space Flight Center, Mail Code 140.1, Greenbelt, MD 20771-0001; telephone (301) 286-7351; fax (301) 286-9502.

NASA Case No. GSC-15124-1: Microsphere Fiber Laser System;

NASA Case No. GSC-15206-1: Otoacoustic Protection in Biologically-Inspired Systems;

NASA Case No. GSC-15039-1: Miniaturized Double Latching Solenoid Valve;

NASA Case No. GSC-15136-1: Blocking Contacts for N-Type Cadmium Zinc Telluride;

NASA Case No. GSC-15333-1: Flexure Based Linear and Rotary Bearings;

NASA Case No. GSC-15357-1: System and Method for Determining Stability of a Neural System;

NASA Case No. GSC-15368-1: Nanowire Device and Method of Making a Nanowire Device;

NASA Case No. GSC-15341-1: Systems, Methods, and Apparatus of a Low Conductance Silicon Micro-Leak for Mass Spectrometer Inlet.

Dated: November 30, 2007.
Keith T. Sefton,
Deputy General Counsel, Administration and Management.

[FR Doc. E7-23738 Filed 12-6-07; 8:45 am]

BILLING CODE 7510-13-P